FEDERAL COMMUNICATIONS COMMISSION

Sunshine Act Meeting; Deletion of Agenda Items From April 8, 2009, Open Meeting and Revised Order of Agenda Items

April 8, 2009.

The following items have been deleted from the list of Agenda items scheduled for consideration at the April 8, 2009, Open Meeting and previously listed in the Commission's Notice of April 1, 2009. These items have been adopted by the Commission.

Item No. | Bureau | Subject
3 | Media | Title: Policies to Promote Rural Radio Service and to Streamline Allotment and Assignment Policies.
|  | Summary: The Commission will consider a Notice of Proposed Rulemaking concerning the policies and procedures for allocation and assignment of broadcast frequencies in the commercial AM and FM and non-commercial FM services.
5 | Public Safety & Homeland Security | Title: Amendment of Part 90 of the Commission's Rules (WP Docket No. 07-100).
|  | Summary: The Commission will consider a Report and Order and Further Notice of Proposed Rulemaking concerning amendments to Part 90 of the Commission's rules.

Revised Order of Agenda Items

The order of the Agenda items as previously listed in the Commission's Notice of April 1, 2009 and scheduled for consideration at the April 8, 2009, Open Meeting is revised as follows: (See April 1, 2009 announcement 74 FR 15479, April 6, 2009).

Item No. | Bureau | Subject
1 | Various Bureaus | Title: A National Broadband Plan for Our Future.
|  | Summary: The Commission will consider a Notice of Inquiry seeking comment to inform the Commission's development of a national broadband plan for our country pursuant to section 6001(k) of the American Recovery and Reinvestment Act of 2009.
2 | Media | Title: Annual Assessment of the Status of Competition in the Market for the Delivery of Video Programming (MB Docket No. 07-269).
|  | Summary: The Commission will consider a Supplemental Notice of Inquiry soliciting information for the next annual report to Congress on the status of competition in the market for the delivery of video programming.
3 | Media | Title: Promoting Diversification of Ownership In the Broadcasting Services (MB Docket No. 07-294); 2006 Quadrennial Regulatory Review—Review of the Commission's Broadcast Ownership Rules and Other Rules Adopted Pursuant to Section 202 of the Telecommunications Act of 1996 (MB Docket No. 06-121); 2002 Biennial Regulatory Review—Review of the Commission's Broadcast Ownership Rules and Other Rules Adopted Pursuant to Section 202 of the Telecommunications Act of 1996 (MB Docket No. 02-277); Cross-Ownership of Broadcast Stations and Newspapers (MM Docket No. 01-235); Rules and Policies Concerning Multiple Ownership of Radio Broadcast Stations in Local Markets (MM Docket No. 01-317); Definition of Radio Markets (MM Docket No. 00-244); Ways to Further Section 257 Mandate and To Build on Earlier Studies (MB Docket No. 04-228).
|  | Summary: The Commission will consider a Report and Order and Fourth Further Notice of Proposed Rule Making concerning improving data collection on minority and female broadcast ownership.

Marlene H. Dortch,
Secretary, Federal Communications Commission.

[FR Doc. E9-8375 Filed 4-8-09; 4:15 pm]

BILLING CODE 6712-01-P